DEPARTMENT OF THE TREASURY

Internal Revenue Service

26 CFR Part 301

[REG-141998-06]

RIN 1545-BG13

Withdrawal of Regulations Under Old Section 6323(b)(10); Correction

AGENCY: Internal Revenue Service (IRS), Treasury.

ACTION: Correction to a notice of proposed rulemaking.

SUMMARY: This document contains corrections to a notice of proposed rulemaking (REG-141998-06) that was published in the Federal Register on Thursday, April 17, 2008 (73 FR 20877) relating to the validity and priority of the Federal tax lien against certain persons under section 6323 of the Internal Revenue Code.

FOR FURTHER INFORMATION CONTACT: Debra A. Kohn, (202) 622-7985 (not a toll-free number).

SUPPLEMENTARY INFORMATION:

Background

The correction notice that is the subject of this document is under section 6323 of the Internal Revenue Code.

Need for Correction

As published, a notice of proposed rulemaking (REG-141998-06) contains errors that may prove to be misleading and are in need of clarification.

Correction of Publication

Accordingly, the publication of a notice of proposed rulemaking (REG-141998-06), which was the subject of FR Doc. E8-8082, is corrected as follows:

1. On page 20879, column 2, under the title heading “PART 301—PROCEDURE AND ADMINISTRATION”, the second entry of Paragraph 2., the language “2. Paragraphs (d)(3) Example 1 and Example 3 are revised.” is corrected to read “2. Paragraphs (d)(3) Example 1 and (d)(3) Example 3 are revised.”.

2. On page 20879, column 2, under the title heading “PART 301—PROCEDURE AND ADMINISTRATION”, the third entry of Paragraph 2., the language “3. Paragraphs (g)(1), and (g)(2) Example 1 through Example 3 are revised.” is corrected to read “3. Paragraphs (g)(1) and (g)(2) Example 1 through Example 3 are revised.”.

3. On page 20881, column 1, the first entry of Paragraph 5., the language “1. Paragraphs (a)(1), (a)(4), (b)(3) Example 1, (b)(3) Example 5, and (c)(1) are revised.” is corrected to read “1. Paragraphs (a)(1), (a)(4), (b)(3) introductory text, (b)(3) Example 1, (b)(3) Example 5, and (c)(1) are revised.”.

4. On page 20881, column 1, the fourth entry of Paragraph 5., the language “4. Newly-designated paragraph (a)(3)(i) introductory text is revised.” is corrected to read “4. Newly-designated paragraph (a)(3)(i) is revised.”.

5. On page 20881, column 1, the seventh, eighth, and ninth entries of Paragraph 5. are re-designated as eighth, ninth, and tenth entries of Paragraph 5. respectively.

6. On page 20881, column 1, the language “7. Paragraphs (c)(1) through (c)(1)(ii) are revised.” is added as the newly designated seventh entry of Paragraph 5.

LaNita Van Dyke,
Chief, Publications and Regulations Branch, Legal Processing Division, Associate Chief Counsel, (Procedure and Administration).

[FR Doc. E8-10692 Filed 5-13-08; 8:45 am]

BILLING CODE 4830-01-P